DEPARTMENT OF STATE

[Public Notice: 12247]

Notice of Determinations; Additional Culturally Significant Objects Being Imported for Exhibition—Determinations: “The Golden Path: Maimonides Across Eight Centuries” Exhibition

SUMMARY: On April 12, 2023, notice was published of determinations pertaining to certain objects to be included in an exhibition entitled “The Golden Path: Maimonides Across Eight Centuries.” Notice is hereby given of the following determinations: I hereby determine that certain additional objects being imported from abroad pursuant to an agreement with their foreign owner or custodian for temporary display in the aforesaid exhibition at the Yeshiva University Museum, New York, New York, and at possible additional exhibitions or venues yet to be determined, are of cultural significance, and, further, that their temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street, NW (SA-5), Suite 5H03, Washington, DC 20522-0505.

SUPPLEMENTARY INFORMATION: The notice was published at 88 FR 22081 (April 12, 2023). The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Nicole L. Elkon,
Deputy Assistant Secretary for Professional and Cultural Exchanges, Bureau of Educational and Cultural Affairs, Department of State.

[FR Doc. 2023-23698 Filed 10-26-23; 8:45 am]

BILLING CODE 4710-05-P